DEPARTMENT OF COMMERCE

National Oceanic and Atmospheric Administration

50 CFR Part 660

[Docket No. 010718180-1180-01;062901A]

RIN 0648-AP01

Fisheries off West Coast States and in the Western Pacific; Coastal Pelagic Species Fisheries; Annual Specifications

AGENCY: National Marine Fisheries Service (NMFS), National Oceanic and Atmospheric Administration (NOAA), Commerce.

ACTION: Final harvest guideline.

SUMMARY: NMFS announces the annual harvest guideline for Pacific mackerel in the exclusive economic zone (EEZ) off the Pacific coast. The Coastal Pelagic Species Fishery Management Plan (FMP) and its implementing regulations require NMFS to set an annual harvest guideline for Pacific mackerel based on a formula in the FMP. The intended effect of this action is to establish allowable harvest levels for Pacific mackerel off the Pacific coast and to minimize the impact on other coastal pelagic fisheries.

DATES: Effective July 20, 2001.

FOR FURTHER INFORMATION CONTACT: James J. Morgan, Southwest Region, NMFS, (562) 980-4036.

SUPPLEMENTARY INFORMATION: The FMP, which was implemented by publication of the final rule in the Federal Register on December 15, 1999 (64 FR 69888), divides managed species into the categories of “actively managed” and “monitored.” Harvest guidelines of actively managed species (Pacific sardine and Pacific mackerel) are based on formulas applied to current biomass estimates. Biomass estimates are not calculated for species that are only monitored (i.e., jack mackerel, northern anchovy, and market squid).

Each year at a Pacific Fishery Management Council (Council) public meeting, the biomass for each actively managed species is presented by the Council’s Coastal Pelagic Species Management Team (Team) to the Council’s Coastal Pelagic Species Advisory Subpanel (Subpanel). At that time, the biomass, the harvest guideline, and the status of the coastal pelagic fisheries are reviewed. Following review by the Council’s Scientific and Statistical Committee (SSC) and after hearing all public comments, the Council makes a recommendation to NMFS. NMFS approves and publishes the annual harvest guideline in the Federal Register as soon as practicable before the beginning of the appropriate fishing season. The Pacific mackerel season began on July 1, 2001, and ends on June 30, 2002, or earlier if and when the harvest guideline is reached. All landings of Pacific mackerel from July 1, 2001, to the effective date of this rule will be counted toward the total harvest guideline of 13,740 (metric tons) mt.

On May 11, 2001, consistent with the procedures of the FMP, the biomass report and harvest guideline for Pacific mackerel were reviewed at a public meeting of the Team and Subpanel at the NMFS, Southwest Region in Long Beach, CA. A modified virtual population analysis stock assessment model is used to estimate the biomass of Pacific mackerel. The model employs both fishery dependent and fishery independent indices to estimate abundance. The biomass was calculated through the end of 2000, then estimated for the fishing season that began July 1, 2001, based on (1) The number of Pacific mackerel estimated to comprise each year class at the beginning of 2001, (2) modeled estimates of fishing mortality during 2000, (3) assumptions for natural and fishing mortality through the first half of 2001, and (4) estimates of age-specific growth. Based on this approach, the biomass for July 1, 2001, is 84,090 metric tons (mt), and the harvest guideline derived from the formula in the FMP as described below is 13,837 mt.

Fishermen and members of the fishing industry were concerned about the low harvest guideline’s potential negative effect on the harvest of Pacific sardine. In response, the Subpanel recommended a directed fishery for Pacific mackerel of 6,000 mt, followed by an incidental harvest of up to 45 percent of Pacific mackerel in landings of other coastal pelagic species. A 1-mt landing of Pacific mackerel per trip would also be allowed if no other species were landed during a trip. If a significant amount of the harvest guideline remains unused toward the end of the fishing season, the directed fishery would be reopened.

At its meeting on June 15, 2001, in Burlingame, CA, the Council heard reports on the mackerel fishery from the Team and Subpanel, its SSC, and from the public. The Council recommended that NMFS adopt the Subpanel’s recommendation of a small directed fishery followed by an incidental landings restriction and a 1-mt landing of mackerel without landing any other species. Therefore, most of the harvest guideline would be used as incidental landings in fisheries for other coastal pelagic species.

The formula in the FMP uses the following factors to determine the harvest guideline:

1. The biomass of Pacific mackerel. For 2001, this estimate is 84,090 mt.

2. The cutoff. This is the biomass level below which no commercial fishery is allowed. The FMP established the cutoff level at 18,200 mt. This is subtracted from the biomass, leaving 65,890 mt.

3. The portion of the Pacific mackerel biomass that is in U.S. waters. For 2001, this estimate is 70 percent, based on the average of larval distribution obtained from scientific cruises and the distribution of the resource obtained from logbooks of fish-spotters. Therefore, the harvestable biomass in U.S. waters is 70 percent of 65,890 mt, which is 46,123 mt.

4. The harvest fraction. This is the percentage of the biomass above 18,200 mt that may be harvested. The FMP established the harvest fraction at 30 percent. This is multiplied by the harvestable biomass (46,123 mt) in U.S. waters and is 13,837 mt.

In view of the above, the following determinations have been made:

1. Based on the estimated biomass of 84,090 mt and the formula in the FMP, a harvest guideline of 13,837 mt was calculated and will be in effect for the fishery that began on July 1, 2001. This harvest guideline is available for harvest for the fishing season that began at 12:01 a.m. on July 1, 2001, and continues through June 30, 2002.

2. There will be a directed fishery of at least 6,000 mt, and 7,837 mt of the harvest guideline will be utilized for incidental landings following the closure of the directed fishery.

NMFS will announce in the Federal Register closure of the directed fishery, after which no more than 45 percent by weight of a landing of Pacific sardine, northern anchovy, jack mackerel, or market squid may consist of Pacific mackerel, except that up to 1-mt of Pacific mackerel may be landed without landing any other species. NMFS will monitor the fishery and if a sufficient amount of harvestable Pacific mackerel stock remains before June 30, 2002, NMFS will reopen the directed fishery.

Classification

This action is authorized by 50 CFR 660.508 and is exempt from review under Executive Order 12866.

The Assistant Administrator for Fisheries, NOAA (AA) finds for good cause under 5 U.S.C. 553(b)(3)(B) that providing prior notice and an opportunity for public comment on this action is unnecessary because establishing the harvest guideline is a ministerial act, determined by applying a formula in the FMP. Accordingly, providing prior notice and an opportunity for public comment would serve no useful purpose.

Because this rule merely announces the result of harvest guideline calculations and does not require any participants in the fishery to take action or to come into compliance, the AA finds for good cause under 5 U.S.C. 553(d)(3) that delaying the effective date of this rule for 30 days is unnecessary.

Because prior notice and opportunity for public comment are not required for this action by 5 U.S.C. 553, or any other law, the analytical requirements of the Regulatory Flexibility Act, 5 U.S.C. 601 et seq., are inapplicable.

Authority: 16 U.S.C. 1801 et seq.

Dated: July 19, 2001.
John Oliver,
Acting Assistant Administrator for Fisheries, National Marine Fisheries Service.

[FR Doc. 01-18529 Filed 7-20-01; 3:35 pm]

BILLING CODE 3510-22-S